DEPARTMENT OF HEALTH AND HUMAN SERVICES

Substance Abuse and Mental Health Services Administration

Notice of a Meeting

Pursuant to Public Law 92-463, notice is hereby given of a meeting of the Substance Abuse and Mental Health Services Administration (SAMHSA) National Advisory Council in June 2002.

The SAMHSA National Advisory Council meeting will be open and will include a discussion on SAMHSA's Science to Services Initiative and updates from the Council's workgroups on co-occurring disorders and HIV/AIDS.

Attendance by the public will be limited to space available. Public comments are welcome. Please communicate with the individual listed as contact below to make arrangements to comment or to request special accommodations for persons with disabilities.

Substantive program information, a summary of the meeting, and a roster of Council members may be obtained from the contact whose name and telephone number is listed below.

Committee Name: SAMHSA National Advisory Council.

Date/Time: Thursday, June 20, 2002, 2:30 p.m. to 5:30 p.m. (Open).

Place: Gaithersburg Marriott Washingtonian Center, 9751 Washingtonian Boulevard, Gaithersburg, Maryland 20878.

Contact: Toian Vaughn, Executive Secretary, 5600 Fishers Lane, Parklawn Building, Room 12C-15, Rockville, MD 20857. Telephone: (301) 443-7016; FAX: (301) 443-7590 and e-mail: tvaughn@samhsa.gov.

Dated: June 7, 2002.
Toian Vaughn,
Committee Management Officer, SAMHSA.

[FR Doc. 02-14903 Filed 6-12-02; 8:45 am]

BILLING CODE 4162-20-P